DEPARTMENT OF THE INTERIOR

Fish and Wildlife Service

[FWS-R2-ES-2020-N054; FXES11130200000-201-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please submit your written comments by May 26, 2020.

ADDRESSES:

Document availability: Request documents by phone or email: Susan Jacobsen, 505-248-6641, susan_jacobsen@fws.gov.

Comment submission: Submit comments by email to fw2_te_permits@fws.gov. Please specify the permit you are interested in by number (e.g., Permit No. TE-123456).

FOR FURTHER INFORMATION CONTACT: Susan Jacobsen, Chief, Classification and Restoration Division, 505-248-6641. Individuals who are hearing or speech impaired may call the Federal Relay Service at 1-800-877-8339 for TTY assistance.

SUPPLEMENTARY INFORMATION:

Background

With some exceptions, the ESA prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) at title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
TE802211 | Texas State University; Austin, Texas | Coffin Cave mold beetle (Batrisodes texanus), Helotes mold beetle (Batrisodes venyivi), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Ground beetle (Rhadine exilis), Ground beetle (Rhadine infernalis), Tooth Cave ground beetle (Rhadine persephone), Tooth Cave pseudoscorpion (Tartarocreagris texana), Kretschmarr Cave mold beetle (Texamaurops reddelli), Cokendolpher cave harvestman (Texella cokendolpheri), Bee Creek Cave harvestman (Texella reddilli), Bone Cave harvestman (Texella reyesi), Diminutive amphipod (Gammarus hyalleloides), Pecos amphipod (Gammarus pecos), Comal Springs riffle beetle (Heterelmis comalensis), Peck's Cave amphipod (Stygobromus pecki), Comal Springs dryopid beetle (Stygoparnus comalensis) | Texas | Presence/absence surveys, habitat surveys, increase in speciments requested | Capture, harm, harass, injury, death | Renew.
TE63904D | Lewis, Chancey D.; Cameron, Texas | Houston toad (Bufo houstonensis), red-cockaded woodpecker (Picoides borealis) | Louisiana, Texas | Presence/absence surveys | Harm, harass | New.
TE51928B | Moczygema, Kevin John; San Antonio, Texas | Golden-cheeked warbler (Setophaga chrysoparia) | Texas | Presence/absence surveys | Harm, harass | Renew.
TE195248 | Morrison, Michael L.; College Station, Texas | Golden-cheeked warbler (Setophaga chrysoparia) | Texas | Presence/absence surveys | Harm, harass | Renew.
TE155413 | Itzkowitz, Murray; Bethlehem, Pennsylvania | Leon Spring pupfish (Cyprinodon bovinus) | Texas | Presence/absence surveys; collection | Harass, harm, capture, injury, death | Renew.
TE67302D | Edwards, Christine E.; St. Louis, Missouri | Texas trailing phlox (Phlox nivalis spp. texensis) | Texas | Presence/absence surveys, sample leaf/stem tissue for genetic analysis | removal | New.
TE63202B | Chambers, Carol L.; Flagstaff, Arizona | New Mexico meadow jumping mouse (Zapus hudsonius luteus) | Arizona, Colorado, New Mexico | Presence/absence surveys, PIT tagging | Capture, injury, death | Renew.
TE68530D | Dewitt, Thomas J.; Austin, Texas | Georgetown salamander (Eurycea naufragia), Jollyville Plateau salamander (Eurycea tonkawae), Salado salamander (Eurycea chisholmensis), San Marcos salamander (Eurycea nana), Barton Springs salamander (Eurycea sosorum), Austin blind salamander (Eurycea waterlooensis) | Texas | Presence/absence surveys | Capture, harm, harass | New.
TE819541 | BRIC, LLC.; Albuquerque, New Mexico | Interior least tern (Sterna antillarum athalassos), Black-footed ferret (Mustela nigripes), southwestern willow flycatcher (Empidonax traillii extimus), Northern aplomado falcon (Falco femoralis septentrionalis) | Arizona, New Mexico | Presence/absence surveys | Harass, harm | Renew.
TE50643B | Weaver, Vaugh D.; Wichita, Kansas | American burying beetle (Nicrophorus americanus), Neosho mucket (Lampsilis rafinesqueana), Topeka shiner (Notropis topeka (=tristis)) | Arkansas, Kansas, Oklahoma | Presence/absence surveys | Capture, harass, harm, injury, death | Renew.
TE060125 | Salt River Project; Phoenix, Arizona | Southwestern willow flycatcher (Empidonax traillii extimus), Yuma clapper rail (Rallus longirostris yumanensis), Gila topminnow (Poeciliopsis occidentalis) | Arizona | Presence/absence surveys | Capture, harm, harass | Renew.
TE07059A | Marsh and Associates, LLC.; Tempe, Arizona | Spikedace (Mega fulgida), loach minnow (Tiaroga cobitis), razorback sucker (Xyrauchen texanus), Gila topminnow (Poeciliopsis occidentalis), desert pupfish (Cyprinodon macularius) | Arizona | Captive propagation | Capture, harm, harass, injury, death | Renew.
TE004439 | Albuquerque BioPark; Albuquerque, New Mexico | Interior least tern (Sterna antillarum athalassos), Rio Grande silvery minnow (Hybognathus amarus), Gila topminnow (Poeciliopsis occidentalis), razorback sucker (Xyrauchen texanus), Gila trout (Oncorhynchus gilae), Soccoro isopod (Thermosphaeroma thermophilum), Socorro springnsail (Pyrgulopsis neomexicana), Colorado pikeminnow (Ptychocheilus lucius), Green sea turtle (Chelonia mydas) | New Mexico | Research, education, propagation | Harass, harm, injury, death | Renew.
TE65027D | McBride Biotracking, LLC.; Flagstaff, Arizona | Gierisch mallow (Sphaeralcea gierischii) | Arizona | Seed collection | Harm | New.
TE57462D | U.S. Army Corps of Engineers-ABQ District; Albuquerque, New Mexico | Interior least tern (Sterna antillarum athalassos), southwestern willow flycatcher (Empidonax traillii extimus), Rio Grande silvery minnow (Hybognathus amarus) | Arizona, Colorado, New Mexico | Presence/absence surveys | Harm, harass, injury, death | Renew.
TE67183D | Gido, Keith B.; Manhattan, Kansas | Spikedace (Mega fulgida), loach minnow (Tiaroga cobitis) | Arizona, New Mexico | Presence/absence surveys | Harm, harass, injury, death | New.
TE69973D | Whitney, James E.; Pittsburg, Kansas | Razorback sucker (Xyrauchen texanus), Colorado pikeminnow (Ptychocheilus lucius) | Colorado, New Mexico, Utah | Presence/absence surveys, electroshocking | Harm, harass, injury, death | New.
TE091551 | U.S. Fish and Wildlife Service, Mexican Wolf Recovery Program, Albuquerque, New Mexico | Mexican gray wolf (Canus lupis baileyi) | Arizona, New Mexico | Presence/absence surveys, management, capture, transport, handling | Harm, harass, injury, death | Renew.
TE168185 | Cox McLain Environmental Consultants; Austin, Texas | Golden-cheeked warbler (Setophaga chrysoparia), interior least tern (Sterna antillarum athalassos), Houston toad (Bufo houstonensis), Atwatter's prairie chicken (Tympanuchus cupido attwateri), gray bat (Myotis griscescens), red-cockaded woodpecker (Leuconotopicus borealis), Ozark big-eared bat (Corynorhinus (=plecotus) townsendii ingens), piping plover (Charadrius melodus), northern aplomado falcon (Falco femoralis septentrionalis) | New Mexico, Oklahoma, Texas | Presence/absence surveys | Harm, harass | Renew.
TE144755 | Reagan Smith Energy Solutions; Oklahoma City, Oklahoma | Interior least tern (Sterna antillarum athalassos) | Arkansas, Colorado, Kansas, Louisiana, Missouri, New Mexico, Oklahoma, Texas | Presence/absence surveys | Harm, harass | Amend.
TE65030D | The Peregrine Fund; Boise, Idaho | Northern aplomado falcon (Falco femoralis septentrionalis) | Texas | Presence/absence surveys | Harm, harass | New.
TE094365 | National Cave and Karst Research Institute; Carlsbad, New Mexico | Coffin Cave mold beetle (Batrisodes texanus), Helotes mold beetle (Batrisodes venyivi), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Ground beetle (Rhadine exilis), Ground beetle (Rhadine infernalis), Tooth Cave ground beetle (Rhadine persephone), Tooth Cave pseudoscorpion (Tartarocreagris texana), Kretschmarr Cave mold beetle (Texamaurops reddelli), Cokendolpher cave harvestman (Texella cokendolpheri), Bee Creek Cave harvestman (Texella reddilli), Bone Cave harvestman (Texella reyesi), Diminutive amphipod (Gammarus hyalleloides), Pecos amphipod (Gammarus pecos), Comal Springs riffle beetle (Heterelmis comalensis), Peck's Cave amphipod (Stygobromus pecki), Comal Springs dryopid beetle (Stygoparnus comalensis), Georgetown salamander (Eurycea naufragia), Jollyville Plateau salamander (Eurycea tonkawae), Salado salamander (Eurycea chisholmensis), San Marcos salamander (Eurycea nana), Barton Springs salamander (Eurycea sosorum), Austin blind salamander (Eurycea waterlooensis), Texas hornshell (Popenaias popeii), Leon Spring pupfish (Cyprinodon bovinus), Pecos pupfish (Cyprinodon pecosensis), fountain darter (Etheostoma fonticola) | Texas, New Mexico | Presence/absence surveys, capture | Harm, harass, injury, death | New.
TE815490 | New Mexico Department of Game and Fish; Santa Fe, New Mexico | Black-footed ferret (Mustela nigripes) | New Mexico | Presence/absence surveys | Harm; harass | Renew.
TE08832A | Utah State University; Logan, Utah | Rio Grande silvery minnow (Hybognathus amarus) | New Mexico | Presence/absence surveys, capture | Harm, harass, injury, death | Renew.
TE69747D | Sea Life US, LLC; San Antonio, Texas | Green sea turtle (Chelonia mydas) | Texas | Public aquarium | Harm, harass | New.
TE69979D | Mata, Barbi; Houston, Texas | Houston toad (Bufo houstonensis), Barton Springs salamander (Eurycea sosorum), Austin blind salamander (Eurycea waterlooensis), Texas blind salamander (Typhlomolge rathbuni) | Alabama, Georgia, Louisiana, Mississippi, Texas | Presence/absence surveys; monitoring | Harm, harass | New.
TE226653 | The Arboretum Flagstaff; Flagstaff Arizona | Peebles Navajo cactus (Pediocactus peeblesianus var. peeblesianus) | Arizona | Collection, propagation | Harm | Amend.
TE35147A | Newstead, David; Corpus Christi, Texas | Piping plover (Charadris melodus) | Texas | Capture, band, presence/absence surveys | Harm, harass | Amend.
TE63522B | Laney, Everett; Muskogee, Oklahoma | American burying beetle (Nicrophorus americanus) | Oklahoma | Presence/absence surveys | Harm, harass | Renew.
TE71777D | Lisignoli, Jenny; Albuquerque, New Mexico | Yuma clapper rail (Rallus longirostris yumanensis), interior least tern (Sterna antillarum athalassos), southwestern willow flycatcher (Empidonax traillii extimus), northern aplomado falcon (Falco femoralis septentrionalis) | Arizona, New Mexico, California | Presence/absence surveys | Harm, harass | New.
TE71795D | Pittenger, Dan S.; Three Rivers, California | Southwestern willow flycatcher (Empidonax traillii extimus) | Arizona, New Mexico, Utah, Nevada | Presence/absence surveys | Harm, harass | New.
TE24625A | Weber, Sarah; San Antonio, Texas | Golden-cheeked warbler (Setophaga chrysoparia) | Texas | Presence/absence surveys | Harm, harass | Renew.
TE60013D | Owen, Bryce; Wylie, Texas | American burying beetle (Nicrophorus americanus) | Kansas, Oklahoma, Texas | Presence/absence surveys | Harm, harass | New.
TE37418B | Brown and Gay Engineers; Frisco, Texas | American burying beetle (Nicrophorus americanus), Golden-cheeked warbler (Setophaga chrysoparia), red cockaded woodpecker | Oklahoma, Texas | Presence/absence surveys | Harm, harass | Renew.
TE776123 | Texas A&M, Galveston, Texas | Kemp's ridley sea turtle (Lepidochelys kempii), loggerhead sea turtle (Caretta caretta), hawksbill sea turtle (Eretmochelys imbricata), leatherback sea turtle (Dermochelys coriacea), green sea turtle (Chelonia mydas) | Texas | Nest relocation, rehabilitation | Harm, harass | Renew.
TE74321D | Weaver, Sara; San Marcos, Texas | Houston toad (Bufo houstonensis) | Texas | Presence/absence surveys | Harm, harass | New.
TE22254B | Hanington, Michelle | Southwestern willow flycatcher (Empidonax traillii extimus) | Arizona, New Mexico, Utah, Colorado | Presence/absence surveys | Harm, harass | Renew.
TE835139 | Hawks Aloft, Inc.; Albuquerque, NM | Southwestern willow flycatcher (Empidonax traillii extimus) | Arizona, New Mexico, Colorado | Presence/absence surveys | Harm, harass | Renew.
TE78959A | Weber, Sarah | Golden-cheeked warbler (Setophaga chrysoparia) | Texas | Presence/absence surveys | Harm, harass | Renew.
TE30430B | University of Houston, Clear Lake, Texas | Rio Grande silvery minnow (Hybognathus amarus), Comanche Springs pupfish (Cyprinodon elegans), Pecos gambusia (Gambusia nobilis), Leon Springs pupfish (Cyprindodon bovinus), Big Bend gambusia (Gambusia gaigei), Devils River minnow (Dionda diaboli), Texas wild-rice (Zizania texana) | New Mexico, Texas | Presence/absence surveys | Harm, harass | Renew.
TE146407 | Belaire Environmental, Inc.; Rockport, Texas | Golden-cheeked warbler (Setophaga chrysoparia) | Texas | Presence/absence surveys | Harm, harass | Renew.
TE829995 | Dallas Zoo; Dallas, Texas | Houston toad (Bufo houstonensis), Barton springs salamander (Eurycea sosorum), loggerhead sea turtle (Caretta caretta), Texas blind salamander (Eurycea rathbuni) | Texas | Captive breeding, rehabilitation | Harm, harass | Renew.
TE28891A | Tristan, Timothy; Corpus Christi, Texas | Kemp's ridley sea turtle (Lepidochelys kempii), loggerhead sea turtle (Caretta caretta), hawksbill sea turtle (Eretmochelys imbricata), leatherback sea turtle (Dermochelys coriacea), green sea turtle (Chelonia mydas) | Texas | Captive breeding, rehabilitation | Harm, harass | Renew.

Authority

We provide this notice under section 10 of the ESA (16 U.S.C. 1531 et seq.).

Amy Lueders,
Regional Director, Southwest Region. U.S. Fish and Wildlife Service.

[FR Doc. 2020-08570 Filed 4-22-20; 8:45 am]

BILLING CODE 4333-15-P